DEPARTMENT OF HOUSING AND URBAN DEVELOPMENT

[Docket No. FR-5411-N-02]

Credit Watch Termination Initiative

AGENCY: Office of the Assistant Secretary for Housing—Federal Housing Commissioner, HUD.

ACTION: Notice.

SUMMARY: This notice advises of the cause and effect of termination of Origination Approval Agreements taken by HUD's Federal Housing Administration (FHA) against HUD-approved mortgagees through the FHA Credit Watch Termination Initiative. This notice includes a list of mortgagees which have had their Origination Approval Agreements terminated.

FOR FURTHER INFORMATION CONTACT: The Quality Assurance Division, Office of Housing, Department of Housing and Urban Development, 451 Seventh Street, SW., Room B133-P3214, Washington, DC 20410-8000; telephone (202) 708-2830 (this is not a toll free number). Persons with hearing or speech impairments may access that number through TTY by calling the Federal Information Relay Service at (800) 877-8339.

SUPPLEMENTARY INFORMATION: HUD has the authority to address deficiencies in the performance of lenders' loans as provided in HUD's mortgagee approval regulations at 24 CFR 202.3. On May 17, 1999 HUD published a notice (64 FR 26769), on its procedures for terminating Origination Approval Agreements with FHA lenders and placement of FHA lenders on Credit Watch status (an evaluation period). In the May 17, 1999 notice, HUD advised that it would publish in the Federal Register a list of mortgagees, which have had their Origination Approval Agreements terminated.

Termination of Origination Approval Agreement: Approval of a mortgagee by HUD/FHA to participate in FHA mortgage insurance programs includes an Origination Approval Agreement (Agreement) between HUD and the mortgagee. Under the Agreement, the mortgagee is authorized to originate single-family mortgage loans and submit them to FHA for insurance endorsement. The Agreement may be terminated on the basis of poor performance of FHA-insured mortgage loans originated by the mortgagee. The termination of a mortgagee's Agreement is separate and apart from any action taken by HUD's Mortgagee Review Board under HUD's regulations at 24 CFR part 25.

Cause: HUD's regulations permit HUD to terminate the Agreement with any mortgagee having a default and claim rate for loans endorsed within the preceding 24 months that exceeds 200 percent of the default and claim rate within the geographic area served by a HUD field office, and also exceeds the national default and claim rate. For the 42nd review period, HUD is terminating the Agreement of mortgagees whose default and claim rate exceeds both the national rate and 200 percent of the field office rate.

Effect: Termination of the Agreement precludes that branch(s) of the mortgagee from originating FHA-insured single-family mortgages within the area of the HUD field office(s) listed in this notice. Mortgagees authorized to purchase, hold, or service FHA insured mortgages may continue to do so.

Loans that closed or were approved before the termination became effective may be submitted for insurance endorsement. Approved loans are (1) those already underwritten and approved by a Direct Endorsement (DE) underwriter employed by an unconditionally approved DE lender and (2) cases covered by a firm commitment issued by HUD. Cases at earlier stages of processing cannot be submitted for insurance by the terminated branch; however, they may be transferred for completion of processing and underwriting to another mortgagee or branch authorized to originate FHA insured mortgages in that area. Mortgagees are obligated to continue to pay existing insurance premiums and meet all other obligations associated with insured mortgages.

A terminated mortgagee may apply for a new Origination Approval Agreement if the mortgagee continues to be an approved mortgagee meeting the requirements of 24 CFR 202.5, 202.6, 202.7, 202.8 or 202.10 and 202.12, if there has been no Origination Approval Agreement for at least six months, and if the Secretary determines that the underlying causes for termination have been remedied. To enable the Secretary to ascertain whether the underlying causes for termination have been remedied, a mortgagee applying for a new Origination Approval Agreement must obtain an independent review of the terminated office's operations as well as its mortgage production, specifically including the FHA-insured mortgages cited in its termination notice. This independent analysis shall identify the underlying cause for the mortgagee's high default and claim rate. The review must be conducted and issued by an independent Certified Public Accountant (CPA) qualified to perform audits under Government Auditing Standards as provided by the Government Accountability Office. The mortgagee must also submit a written corrective action plan to address each of the issues identified in the CPA's report, along with evidence that the plan has been implemented. The application for a new Agreement should be in the form of a letter, accompanied by the CPA's report and corrective action plan. The request should be sent to the Director, Office of Lender Activities and Program Compliance, 451 Seventh Street, SW., Room B133-P3214, Washington, DC 20410-8000 or by courier to 490 L'Enfant Plaza, East, SW., Suite 3214, Washington, DC 20024-8000.

Action: The following mortgagees have had their Origination Agreements terminated by HUD:

Mortgagee name | Mortgagee branch address | HUD office jurisdictions | Termination effective date | Homeownership centers
1st Continental Mortgage, Inc | 2691 E. Oakland Park Blvd, Suite 203, Fort Lauderdale, FL 3306 | Orlando | 4/28/2010 | Atlanta
1st Continental Mortgage, Inc | 2691 E. Oakland Park Blvd, Suite 203, Fort Lauderdale, FL 3306 | Jacksonville | 4/28/2010 | Atlanta
1st Continental Mortgage, Inc | 2691 E. Oakland Park Blvd, Suite 203, Fort Lauderdale, FL 3306 | Birmingham | 4/28/2010 | Atlanta
Allied Home Mortgage Capital Corp | 6110 Pinemont Drive, Suite 215, Houston, TX 77092 | Newark | 4/9/2010 | Denver
Allied Home Mortgage Capital Corp | 6110 Pinemont Drive, Suite 215, Houston, TX 77092 | Washington, DC | 4/9/2010 | Philadelphia
Americare Investment Group, Inc. d/b/a Premier Capital Lending | 901 W. Bardin Road, Suite 200, Arlington, TX 76017 | Dallas | 2/18/2010 | Denver
Ameristar Mortgage & Financial Services, Inc | 2468 Old Springville Road, Birmingham, AL 35215 | Birmingham | 4/9/2010 | Denver
Community West Mortgage, LLC | 3360 South Wadsworth Blvd., Lakewood, CO 80227 | Denver | 2/18/2010 | Denver
Consumers Real Estate Finance Company | 888 E. Las Olas Blvd., Suite 506, Ft. Lauderdale, FL 33301 | Cleveland | 11/4/2009 | Santa Ana
D and R Mortgage Corp. d/b/a Metro Finance | 29870 Middlebelt Road, Suite 100, Farmington Hills, MI 48334 | Flint | 4/9/2010 | Philadelphia
D and R Mortgage Corp. d/b/a Metro Finance | 29870 Middlebelt Road, Suite 100, Farmington Hills, MI 48334 | Grand Rapids | 4/9/2010 | Philadelphia
D and R Mortgage Corp. d/b/a Metro Finance | 29870 Middlebelt Road, Suite 100, Farmington Hills, MI 48334 | Detroit | 4/9/2010 | Philadelphia
D and R Mortgage Corp. d/b/a Metro Finance | 29870 Middlebelt Road, Suite 100, Farmington Hills, MI 48334 | Greensboro | 4/9/2010 | Atlanta
Dell Franklin Financial, LLC | 8334 Veterans Highway, Suite 1, Millersville, MD 21108 | Baltimore | 4/9/2010 | Philadelphia
Essential Mortgage, Inc | 1701 48th Street, Suite 110, West Des Moines, IA 50266 | Des Moines | 4/30/2010 | Denver
First Mortgage Corp | 3230 Fallow Field Drive, Diamond Bar, CA 91765 | Fresno | 2/18/2010 | Santa Ana
First Ohio Banc and Lending, Inc | 6100 Rockside Woods Blvd, Suite 1, Independence, OH 44313 | Richmond | 4/30/2010 | Philadelphia
Franklin First Financial, Ltd. d/b/a President First Mortgage Bankers | 445 Broadhollow Road, Suite 215, Melville, NY 11747 | Newark | 4/9/2010 | Philadelphia
Franklin First Financial, Ltd. d/b/a President First Mortgage Bankers | 445 Broadhollow Road, Suite 215, Melville, NY 11747 | Camden | 4/9/2010 | Philadelphia
Gateway Funding Diversified Mtg. SRVS LP | 300 Welsh Road, Building 5, Horsham, PA 19044 | Camden | 2/18/2010 | Philadelphia
Gold Star Home Mortgage, LLC | 3007 North Belt Highway, Suite K, Saint Joseph, MO 64506 | Kansas City | 2/18/2010 | Denver
Group Two Thousand Real Estate Services d/b/a Empire Financial | 8010 Haven Avenue, Rancho Cucamonga, CA 91730 | Santa Ana | 4/9/2010 | Santa Ana
Interlinc Mortgage, Inc | 19221 Interstate 45, Suite 210, Conroe, TX 77385 | San Antonio | 4/30/2010 | Denver
Jagle and Associates, LLC | 900 N. Federal Highway, Suite 240, Boca Raton, FL 33432 | Miami | 2/18/2010 | Atlanta
Loanmans Mortgage Store, LLC d/b/a Hamilton Lending | 602 S. Marina Drive, Gilbert, AZ 85233 | Omaha | 4/23/2010 | Denver
Morrison Capital Corporation, Inc | 251 S.W. Noel Street, Lees Summit, MO 64063 | Kansas City | 4/30/2010 | Denver
Neighborhood Funding, Inc | 8910 N. Dale Mabry Highway, Suite 18, Tampa, FL 33614 | Atlanta | 2/18/2010 | Atlanta
Newport Shores Mortgage, Inc | 1526 York Road, Lutherville Timonium, MD 21093 | Greensboro | 2/18/2010 | Atlanta
Paraiso, LLC | 5505 Roswell Road, NE., Suite 250, Atlanta, GA 30342 | Atlanta | 2/18/2010 | Atlanta
Pinnacle Mortgage Funding, LLC | 250 E. 96th, Suite 125, Indianapolis, IN 46240 | Indianapolis | 2/18/2010 | Denver
Premium Capital Funding, LLC d/b/a Topdot Mortgage | 125 Jericho Turnpike, Suite 400, Jericho, NY 11753-1030 | Jacksonville | 2/18/2010 | Atlanta
Premium Capital Funding, LLC d/b/a Topdot Mortgage | 125 Jericho Turnpike, Suite 400, Jericho, NY 11753-1030 | Atlanta | 2/18/2010 | Atlanta
Premium Capital Funding, LLC d/b/a Topdot Mortgage | 125 Jericho Turnpike, Suite 400, Jericho, NY 11753-1030 | Baltimore | 2/18/2010 | Philadelphia
Premium Capital Funding, LLC d/b/a Topdot Mortgage | 125 Jericho Turnpike, Suite 400, Jericho, NY 11753-1030 | Richmond | 2/18/2010 | Philadelphia
Republic State Mortgage | 2715 Bissonnet Street, Suite 102, Houston, TX 77005 | Dallas | 4/30/2010 | Denver
Tamayo Financial Services, Inc | 16123 La Grange Road, Orland Park, IL | Chicago | 4/30/2010 | Atlanta
The First Fidelity Mortgage Group d/b/a First Fidelity Mortgage | 9607 Belair Road, Baltimore, MD 21236 | Columbia | 2/18/2010 | Atlanta
The First Fidelity Mortgage Group d/b/a First Fidelity Mortgage | 9607 Belair Road, Baltimore, MD 21236 | Greensboro | 2/18/2010 | Atlanta
Weststar Mortgage Group | 2155 Louisiana Boulevard, NE., Albuquerque, NM 87110 | Dallas | 4/28/2010 | Denver

Dated: July 30, 2010.
David H. Stevens,
Assistant Secretary for Housing—Federal Housing Commissioner.

[FR Doc. 2010-20068 Filed 8-12-10; 8:45 am]

BILLING CODE 4210-67-P